DEPARTMENT OF ENERGY

Federal Energy Regulatory Commission

Combined Notice of Filings # 1

September 14, 2010.

Take notice that the Commission received the following electric corporate filings:

Docket Numbers: EC10-95-000.

Applicants: Solios Power LLC, Solios Power Trading LLC, Solios Power Mid-Atlantic Trading LLC, Solios Power Midwest Trading LLC.

Description: Application for authorization for disposition of jurisdictional facilities and request for expedited and privileged treatment of Exhibit I.

Filed Date: 09/10/2010.

Accession Number: 20100913-0201.

Comment Date: 5 p.m. Eastern Time on Friday, October 1, 2010.

Take notice that the Commission received the following electric rate filings:

Docket Numbers: ER04-925-022.

Applicants: Merrill Lynch Commodities, Inc.

Description: Supplemental Filing of Merrill Lynch Commodities, Inc.

Filed Date: 09/13/2010.

Accession Number: 20100913-5303.

Comment Date: 5 p.m. Eastern Time on Monday, October 4, 2010.

Docket Numbers: ER10-2194-001.

Applicants: Luminant Energy Company LLC.

Description: Luminant Energy Company LLC submits tariff filing per 35: Luminant Energy Company LLC MBR Baseline Compliance Filing to be effective 8/11/2010.

Filed Date: 09/14/2010.

Accession Number: 20100914-5096.

Comment Date: 5 p.m. Eastern Time on Tuesday, October 5, 2010.

Docket Numbers: ER10-2251-000.

Applicants: Wisconsin Electric Power Company.

Description: Wisconsin Electric Power Company submits a Notice of Cancellation of Interconnection Agreement with Commonwealth Edison Company.

Filed Date: 08/16/2010.

Accession Number: 20100817-0206.

Comment Date: 5 p.m. Eastern Time on Tuesday, September 21, 2010.

Docket Numbers: ER10-2415-001.

Applicants: Midwest Independent Transmission System Operator, Inc.

Description: Midwest Independent Transmission System Operator, Inc. submits tariff filing per 35.17(b): Section 7 Amendment Filing to be effective 10/26/2010.

Filed Date: 09/14/2010.

Accession Number: 20100914-5061.

Comment Date: 5 p.m. Eastern Time on Tuesday, October 5, 2010.

Docket Numbers: ER10-2438-001.

Applicants: ISO New England Inc.

Description: ISO New England Inc. submits tariff filing to Correct Baseline Language, to be effective 8/30/2010.

Filed Date: 09/14/2010.

Accession Number: 20100914-5017.

Comment Date: 5 p.m. Eastern Time on Tuesday, October 5, 2010.

Docket Numbers: ER10-2583-001.

Applicants: Nevada Power Company.

Description: Nevada Power Company submits tariff filing per 35.17(b): Amended Filing of RPPA Rate Schedule 115 to correct Effective Date to be effective 10/10/2010.

Filed Date: 09/13/2010.

Accession Number: 20100913-5238.

Comment Date: 5 p.m. Eastern Time on Monday, October 4, 2010.

Docket Numbers: ER10-2584-001.

Applicants: Nevada Power Company.

Description: Nevada Power Company submits tariff filing per 35.17(b): Amended Filing of RPPA Rate Schedule 116 to correct Effective Date to be effective 11/12/2010.

Filed Date: 09/13/2010.

Accession Number: 20100913-5260.

Comment Date: 5 p.m. Eastern Time on Monday, October 4, 2010.

Docket Numbers: ER10-2612-000.

Applicants: Wabash Valley Power Association, Inc.

Description: Wabash Valley Power Association, Inc. submits tariff filing per 35: WVPA Baseline—FERC Electric Tariff Volume No. 1 to be effective 9/13/2010.

Filed Date: 09/13/2010.

Accession Number: 20100913-5246.

Comment Date: 5 p.m. Eastern Time on Monday, October 4, 2010.

Docket Numbers: ER10-2613-000.

Applicants: Sithe/Independence Power Partners, L.P.

Description: Sithe/Independence Power Partners, L.P. submits tariff filing per 35.12: Market-Based Rate Tariff in Compliance with Order No. 714 to be effective 9/13/2010.

Filed Date: 09/13/2010.

Accession Number: 20100913-5252.

Comment Date: 5 p.m. Eastern Time on Monday, October 4, 2010.

Docket Numbers: ER10-2614-000.

Applicants: ENMAX Energy Marketing, Inc.

Description: ENMAX Energy Marketing, Inc. submits tariff filing per 35.12: FERC_Electric_Tariff to be effective 8/26/2004.

Filed Date: 09/13/2010.

Accession Number: 20100913-5253.

Comment Date: 5 p.m. Eastern Time on Monday, October 4, 2010.

Docket Numbers: ER10-2615-000.

Applicants: Plum Point Energy Associates, LLC.

Description: Plum Point Energy Associates, LLC submits tariff filing per 35.12: Market-Based Rate Tariff in Compliance with Order No. 714 to be effective 9/13/2010.

Filed Date: 09/13/2010.

Accession Number: 20100913-5255.

Comment Date: 5 p.m. Eastern Time on Monday, October 4, 2010.

Docket Numbers: ER10-2616-000.

Applicants: Dynegy Marketing and Trade, LLC.

Description: Dynegy Marketing and Trade, LLC submits tariff filing per 35.12: Market-Based Rate Tariff in Compliance with Order No. 714 to be effective 9/13/2010.

Filed Date: 09/13/2010.

Accession Number: 20100913-5256.

Comment Date: 5 p.m. Eastern Time on Monday, October 4, 2010.

Docket Numbers: ER10-2617-000.

Applicants: Ontelaunee Power Operating Co., LLC.

Description: Ontelaunee Power Operating Co., LLC submits tariff filing per 35.12: Market-Based Rate Tariff in Compliance with Order No. 714 to be effective 9/13/2010.

Filed Date: 09/13/2010.

Accession Number: 20100913-5261.

Comment Date: 5 p.m. Eastern Time on Monday, October 4, 2010.

Docket Numbers: ER10-2618-000.

Applicants: Dynegy Danskammer, LLC.

Description: Dynegy Danskammer, LLC submits tariff filing per 35.12: Market-Based Rate Tariff in Compliance with Order No. 714 to be effective 9/13/2010.

Filed Date: 09/13/2010.

Accession Number: 20100913-5311.

Comment Date: 5 p.m. Eastern Time on Monday, October 4, 2010.

Docket Numbers: ER10-2619-000.

Applicants: Dynegy Kendall Energy, LLC.

Description: Dynegy Kendall Energy, LLC submits tariff filing per 35.12: Market-Based Rate Tariff in Compliance with Order No. 714 to be effective 9/13/2010.

Filed Date: 09/13/2010.

Accession Number: 20100913-5315.

Comment Date: 5 p.m. Eastern Time on Monday, October 4, 2010.

Docket Numbers: ER10-2620-000.

Applicants: Northern States Power Company, a Minnesota.

Description: Northern States Power Company, a Minnesota corporation submits tariff filing per 35.13(a)(2)(iii): 20100913_Rate Schedule 601 NWEC Filing to be effective 8/17/2010.

Filed Date: 09/13/2010.

Accession Number: 20100913-5317.

Comment Date: 5 p.m. Eastern Time on Monday, October 4, 2010.

Docket Numbers: ER10-2621-000.

Applicants: California Independent System Operator Corporation

Description: California Independent System Operator Corporation submits tariff filing per 35: 2010-09-13 CAISO Proxy Demand Resource Compliance Filing to be effective N/A.

Filed Date: 09/13/2010.

Accession Number: 20100913-5320.

Comment Date: 5 p.m. Eastern Time on Monday, October 4, 2010.

Docket Numbers: ER10-2622-000.

Applicants: Northern States Power Company.

Description: Northern States Power Company, a Minnesota corporation submits tariff filing per 35.13(a)(2)(iii): 20100913_Rate Schedule 602 NCP Filing to be effective 1/1/2011.

Filed Date: 09/13/2010.

Accession Number: 20100913-5322.

Comment Date: 5 p.m. Eastern Time on Monday, October 4, 2010.

Docket Numbers: ER10-2623-000.

Applicants: California Independent System Operator Corporation

Description: California Independent System Operator Corporation submits tariff filing per 35: 2010-09-13 CAISO Proxy Demand Resource Compliance Filing to be effective 7/19/2010.

Filed Date: 09/13/2010.

Accession Number: 20100913-5324.

Comment Date: 5 p.m. Eastern Time on Monday, October 4, 2010.

Docket Numbers: ER10-2624-000.

Applicants: New Dominion Energy Cooperative.

Description: New Dominion Energy Cooperative submits its Baseline Tariff Filing, to be effective 9/14/2010.

Filed Date: 09/14/2010.

Accession Number: 20100914-5001.

Comment Date: 5 p.m. Eastern Time on Tuesday, October 5, 2010.

Docket Numbers: ER10-2625-000.

Applicants: San Diego Gas & Electric Company.

Description: San Diego Gas & Electric Company submits their Engineering and Procurement Agreement dated 9/1/10 with Borrego PV Solar I LLC, to be effective 9/13/2010.

Filed Date: 09/14/2010.

Accession Number: 20100914-5004.

Comment Date: 5 p.m. Eastern Time on Tuesday, October 5, 2010.

Docket Numbers: ER10-2626-000.

Applicants: TEC Trading, Inc.

Description: TEC Trading, Inc. submits its Baseline Tariff Filing of Market-Based Rate Schedule, to be effective 9/14/2010.

Filed Date: 09/14/2010.

Accession Number: 20100914-5006.

Comment Date: 5 p.m. Eastern Time on Tuesday, October 5, 2010.

Docket Numbers: ER10-2627-000.

Applicants: FirstLight Hydro Generating Company.

Description: FirstLight Hydro Generating Company submits tariff filing per 35.12: First Baseline Filing to be effective 9/14/2010.

Filed Date: 09/14/2010.

Accession Number: 20100914-5031.

Comment Date: 5 p.m. Eastern Time on Tuesday, October 5, 2010.

Docket Numbers: ER10-2628-000.

Applicants: Lost Creek Wind, LLC.

Description: Lost Creek Wind, LLC submits tariff filing per 35.12: 20100914_baseline_lost creek wind, llc to be effective 9/14/2010 under ER10-02628-000 Filing Type: 360

Filed Date: 09/14/2010.

Accession Number: 20100914-5042.

Comment Date: 5 p.m. Eastern Time on Tuesday, October 5, 2010.

Docket Numbers: ER10-2629-000.

Applicants: FirstLight Power Resources Management, LLC.

Description: FirstLight Power Resources Management, LLC submits its Baseline tariff FERC Electric Tariff, Volume No 1, to be effective 9/14/2010.

Filed Date: 09/14/2010.

Accession Number: 20100914-5046.

Comment Date: 5 p.m. Eastern Time on Tuesday, October 5, 2010.

Docket Numbers: ER10-2630-000.

Applicants: NGP Blue Mountain I LLC.

Description: NGP Blue Mountain I LLC submits its baseline filing pursuant to Order No 614, to be effective 9/14/2010.

Filed Date: 09/14/2010.

Accession Number: 20100914-5047.

Comment Date: 5 p.m. Eastern Time on Tuesday, October 5, 2010.

Docket Numbers: ER10-2631-000.

Applicants: Rumford Power Inc.

Description: Rumford Power Inc. submits tariff filing per 35.12: Rumford Power Market Based Rate Tariff Baseline Filing to be effective 9/14/2010.

Filed Date: 09/14/2010.

Accession Number: 20100914-5048.

Comment Date: 5 p.m. Eastern Time on Tuesday, October 5, 2010.

Docket Numbers: ER10-2632-000.

Applicants: Tiverton Power Inc.

Description: Tiverton Power Inc. submits tariff filing per 35.12: Tiverton Power Inc. Market Based Rate Baseline Filing to be effective 9/14/2010.

Filed Date: 09/14/2010.

Accession Number: 20100914-5049.

Comment Date: 5 p.m. Eastern Time on Tuesday, October 5, 2010.

Docket Numbers: ER10-2633-000.

Applicants: Birchwood Power Partners, L.P.

Description: Birchwood Power Partners, L.P. submits tariff filing per 35.12: Baseline Filing for Birchwood Market Based Rate Tariff to be effective 9/14/2010.

Filed Date: 09/14/2010.

Accession Number: 20100914-5051.

Comment Date: 5 p.m. Eastern Time on Tuesday, October 5, 2010.

Docket Numbers: ER10-2634-000.

Applicants: New York Independent System Operator, Inc.

Description: New York Independent System Operator, Inc. submits tariff filing per 35.13(a)(2)(iii): Purchase and Sale Agreement between National Grid and Luther Forest EDC to be effective 9/9/2010.

Filed Date: 09/14/2010.

Accession Number: 20100914-5052.

Comment Date: 5 p.m. Eastern Time on Tuesday, October 5, 2010.

Docket Numbers: ER10-2635-000.

Applicants: February Futures, LLC.

Description: February Futures, LLC submits tariff filing per 35.12: February Futures LLC Market-Based Rate Tariff Baseline Filing to be effective 9/14/2010.

Filed Date: 09/14/2010.

Accession Number: 20100914-5055.

Comment Date: 5 p.m. Eastern Time on Tuesday, October 5, 2010.

Docket Numbers: ER10-2636-000.

Applicants: Mt. Tom Generating Company, LLC.

Description: Mt. Tom Generating Company, LLC submits tariff filing per 35.12: Mt. Tom Baseline Tariff to be effective 9/14/2010.

Filed Date: 09/14/2010.

Accession Number: 20100914-5056.

Comment Date: 5 p.m. Eastern Time on Tuesday, October 5, 2010.

Docket Numbers: ER10-2637-000.

Applicants: PJM Interconnection, L.L.C.

Description: PJM Interconnection, LLC submits revised interconnection service agreement with Calpine New Jersey Generation, LLC et al.

Filed Date: 09/14/2010.

Accession Number: 20100914-0201.

Comment Date: 5 p.m. Eastern Time on Tuesday, October 5, 2010.

Docket Numbers: ER10-2638-000.

Applicants: Waterbury Generation, LLC.

Description: Waterbury Generation, LLC submits tariff filing per 35.12: Waterbury Generation, LLC Baseline Tariff to be effective 9/14/2010.

Filed Date: 09/14/2010.

Accession Number: 20100914-5076.

Comment Date: 5 p.m. Eastern Time on Tuesday, October 5, 2010.

Docket Numbers: ER10-2639-000.

Applicants: Noble Americas Gas & Power Corp.

Description: Noble Americas Gas & Power Corp. submits tariff filing per 35.12: Baseline to be effective 9/14/2010.

Filed Date: 09/14/2010.

Accession Number: 20100914-5116.

Comment Date: 5 p.m. Eastern Time on Tuesday, October 5, 2010.

Docket Numbers: ER10-2640-000.

Applicants: Pilot Power Group, Inc.

Description: Pilot Power Group, Inc. submits tariff filing per 35.12: PPG Tariff to be effective 12/31/1998.

Filed Date: 09/14/2010.

Accession Number: 20100914-5128.

Comment Date: 5 p.m. Eastern Time on Tuesday, October 5, 2010.

Docket Numbers: ER10-2641-000.

Applicants: Oleander Power Project, Limited Partners.

Description: Oleander Power Project, Limited Partnership submits tariff filing per 35.12: Baseline Filing to be effective 9/14/2010.

Filed Date: 09/14/2010.

Accession Number: 20100914-5130.

Comment Date: 5 p.m. Eastern Time on Tuesday, October 5, 2010.

Take notice that the Commission received the following electric securities filings:

Docket Numbers: ES10-55-000.

Applicants: MidAmerican Energy Company.

Description: Amended Application for Authorization to Issue and Sell Up to $850 Million of Bonds, Notes, Debentures, Guarantees or Other Evidences of Long-Term Indebtedness of MidAmerican Energy Company.

Filed Date: 09/13/2010.

Accession Number: 20100913-5338.

Comment Date: 5 p.m. Eastern Time on Thursday, September 23, 2010.

Docket Numbers: ES10-56-000.

Applicants: MidAmerican Energy Company.

Description: Amended Application for Authorization to Issue and Sell Up to $750 Million of Promissory Notes or Other Evidences of Unsecured Short-Term Indebtedness.

Filed Date: 09/13/2010.

Accession Number: 20100913-5337.

Comment Date: 5 p.m. Eastern Time on Thursday, September 23, 2010.

Docket Numbers: ES10-58-000.

Applicants: Kansas City Power & Light Company.

Description: Application of Kansas City Power & Light Company for Authorization Under Section 204(A) to Issue Short-Term Debt.

Filed Date: 09/13/2010.

Accession Number: 20100913-5334.

Comment Date: 5 p.m. Eastern Time on Monday, October 4, 2010.

Take notice that the Commission received the following open access transmission tariff filings:

Docket Numbers: OA08-52-008.

Applicants: New York Independent System Operator, Inc.

Description: Tariff Sheets of New York Independent System Operator, First Revised Sheet No. 99 et al under FERC Electric Tariff, Original No. 2, inception to date.

Filed Date: 09/14/2010.

Accession Number: 20090110-0245.

Comment Date: 5 p.m. Eastern Time on Tuesday, October 5, 2010.

Take notice that the Commission received the following PURPA 210(m)(3) filings:

Docket Numbers: QM10-6-000.

Applicants: Commonwealth Edison Company.

Description: Application of Commonwealth Edison Company.

Filed Date: 09/13/2010.

Accession Number: 20100913-5247.

Comment Date: 5 p.m. Eastern Time on Tuesday, October 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-23618 Filed 9-21-10; 8:45 am]

BILLING CODE 6717-01-P